DEPARTMENT OF ENERGY

Federal Energy Regulatory Commission

[Docket No. EG04-67-000, et al.]

Meiya Yulchon Power Company Limited, et al.; Electric Rate and Corporate Filings

May 11, 2004.

The following filings have been made with the Commission. The filings are listed in ascending order within each docket classification.

1. Meiya Yulchon Power Company Limited

[Docket No. EG04-67-000]

On May 7, 2004, Meiya Yulchon Power Company Limited (MYP), with its principal office at 171 Old Bakery Street, Valletta, Malta, filed with the Federal Energy Regulatory Commission (Commission) an application for determination of exempt wholesale generator status pursuant to part 365 of the Commission's regulations.

MYP states that it is a company organized under the laws of Malta. MYP further states that it will be engaged, directly or indirectly through an affiliate as defined in section 2(a)(11)(B) of the Public Utility Holding Company Act of 1935 (“PUHCA”), exclusively in owning, operating, or both owning and operating, a gas-fired electric generating facility with a total output of approximately 612 megawatts consisting of two combustion turbine generators, two reheat heat recovery steam generators, one condensing steam turbine generator and certain additional incidental facilities, located in Yulchon, Cholla province, South Korea. MYP indicates that it will through an affiliate sell electric energy at wholesale from the facility and may engage in other incidental activities with respect thereto consistent with PUHCA.

Comment Date: May 28, 2004.

2. Ivanpah Energy Center, L.P.

[Docket No. EG04-68-000]

On May 10, 2004, Ivanpah Energy Center, L.P. (IECLP), a Delaware limited liability partnership, with its principal place of business at 333 S. Grand Avenue, Suite 1570, Los Angeles, CA 90071, filed with the Federal Energy Regulatory Commission (Commission) an application for determination of exempt wholesale generator (EWG) status pursuant to part 365 of the Commission's regulations.

IECLP states that it will be engaged directly and exclusively in the business of owning or operating, or both owning and operating, a 500 MW gas-fired combined cycle power generation facility located near Jean, in Clark County, Nevada. IECLP further states that it will sell the capacity exclusively at wholesale.

IECLP indicates that a copy of the filing was served upon the Securities and Exchange Commission, and the Nevada Public Utilities Commission.

Comment Date: June 1, 2004.

3. Colorado River Commission of Nevada, Complainant v. Nevada Power Company, Respondent

[Docket No. EL04-100-000]

Take notice that on May 10, 2004, the Colorado River Commission of Nevada (CRC) filed a formal complaint against Nevada Power Company (NPC) pursuant to sections 206, 306 and 309 of the Federal Power Act, 16 U.S.C. 824e, 825e and 825h (2000), and rule 206 of the Federal Energy Regulatory Commission's rules of practice and procedure, 18 CFR 385.206 (2003), for amounts CRC alleges are due to CRC for positive imbalance energy that NPC either unlawfully confiscated or underpaid in contravention of the filed rate encompassed within its Electric Service Coordination Tariff (Coordination Tariff) and unfiled letter agreements entered into pursuant to the Coordination Tariff. CRC further alleges that NPC owes it time value refunds for FERC-jurisdictional energy parking services NPC provided to CRC pursuant to unfilled agreements.

Comment Date: June 1, 2004.

4. PacifiCorp

[Docket No. ER04-439-001]

Take notice that on May 5, 2004, PacifiCorp submitted a compliance filing pursuant to the Commission's letter order issued March 19, 2004, in Docket No. ER04-439-000.

PacifiCorp states that copies of this filing were supplied to the parties on the service list under Docket No. ER04-439-000 including the Public Utility Commission of Oregon, and the Washington Utilities and Transportation Commission.

Comment Date: May 26, 2004.

5. Tucson Electric Power Company and UNS Electric, Inc.

[Docket No. ER04-460-001]

Take notice that on May 5, 2004, Tucson Electric Power Company and UNS Electric, Inc., in response to the Commission's April 20, 2004 deficiency letter, filed an amendment to its January 20, 2004, in Docket No. ER04-460-000.

Comment Date: May 26, 2004.

6. Entergy Services, Inc.

[Docket No. ER04-763-001]

Take notice that on May 5, 2004, Entergy Services, Inc., on behalf of Entergy Arkansas, Inc., Entergy Gulf States, Inc., Entergy Louisiana, Inc., Entergy Mississippi, Inc., and Entergy New Orleans, Inc. (collectively, the Entergy Operating Companies), tendered for filing an errata to its April 26, 2004, filing of proposed regional reliability variations to the Large Generator Interconnection Procedures accompanying Order No. 2003-A, Standardization of Generator Interconnection Agreements and Procedures, 106 FERC ¶ 61,220 (2004). Entergy Operating Companies states that the errata identifies certain tariff sheets that were inadvertently included in Entergy's April 26, 2004, filing.

Comment Date: May 26, 2004.

7. Vermont Electric Cooperative, Inc.

[Docket No. ER04-794-000]

Take notice that on May 3, 2004, Vermont Electric Cooperative, Inc. (VEC) tendered for filing its annual formula rate update to its FERC Electric Tariff, Original Volume No. 1 and its First Revised Rate Schedule FERC Nos. 4 through 7. VEC requests effective dates for its annual update of May 1, 2004, June 1, 2004, and July 1, 2004, pursuant to the applicable provisions of the Tariff and the Rate Schedules.

VEC states that each of the customers receiving service under the Tariff and Rate Schedules, the Vermont Public Service Board, and the Vermont Department of Public Service were mailed copies of the filing.

Comment Date: May 24, 2004.

8. PJM Interconnection, L.L.C.

[Docket No. ER04-796-001]

Take notice that on May 5, 2004, PJM Interconnection, L.L.C. (PJM), amended its April 30, 2004, filing in Docket No. ER04-796-000 to include the appropriate Order No. 614 designations on an unexecuted service agreement for non-firm point-to-point transmission service with Exelon Generation Company, L.L.C. (ExGen), for use solely in connection with a dynamic schedule, in an amount not to exceed 35 MW, to the Hannibal, Ohio facility of Ormet Primary Aluminum Corporation. PJM states that no other changes were made to the service agreement.

PJM states that copies of this filing were served to ExGen and the state commissions in the PJM region.

Comment Date: May 26, 2004.

9. Ameren Services Company

[Docket No. ER04-803-000]

Take notice that on May 3, 2004, Ameren Services Company (ASC) tendered for filing an executed Network Integration Transmission Service and a Network Operating Agreement between ASC and Wayne-White Counties Electric Cooperative. ASC requests an effective date of April 1, 2004.

Comment Date: May 24, 2004.

10. Denver City Energy Associates, L.P.

[Docket No. ER04-809-000]

Take notice that on May 3, 2004, Denver City Energy Associates, L.P. (DCE), tendered for filing revisions to its FERC Electric Tariff, Original Volume No. 1 in order to reflect the fact that DCE is no longer affiliated with any regulated utility with a franchised service territory and to include the standard provision governing reassignment of transmission capacity. DCE requests an effective date of July 2, 2004.

DCE states that a copy of the filing was served on Golden Spread Electric Cooperative, Inc., which is currently DCE's only customer.

Comment Date: May 24, 2004.

11. TransAlta Centralia Generation L.L.C.

[Docket No. ER04-810-000]

Take notice that on May 3, 2004, TransAlta Centralia Generation L.L.C. (TACG) tendered for filing its Rate Schedule FERC No.1 for Reactive Supply and Voltage Control from Generation Sources Services (Reactive Power Service), in order to obtain compensation for the Reactive Power Service that TACG provides to Bonneville Power Administration (Bonneville) to maintain the reliability of the Federal Columbia River Transmission System operated by Bonneville.

TACG states that it has served a copy of the filing upon Bonneville.

Comment Date: May 24, 2004.

12. Duke Energy Marketing America, LLC

[Docket No. ER04-811-000]

Take notice that on May 4, 2004, Duke Energy Marketing America, LLC (DEMA), as successor to Engage Energy, LLC (Engage) filed a Notice of Cancellation of Engage's Electric Rate Schedule FERC No. 1. DEMA requests an effective date of May 1, 2004.

Comment Date: May 25, 2004.

13. Duke Energy Corporation

[Docket No. ER04-812-000]

Take notice that on May 3, 2004, Duke Energy Corporation, on behalf of Duke Electric Transmission, tendered for filing in compliance with Order No. 2003-A, Standardization of Generator Interconnection Agreements and Procedures, 106 FERC ¶ 61,220 (2004), its revised Open Access Transmission Tariff (OATT), FERC Electric Tariff Third Revised Volume No. 4.

Comment Date: May 24, 2004.

14. Vermont Electric Cooperative, Inc.

[Docket No. ER04-813-000]

Take notice that on May 4, 2004, Vermont Electric Cooperative, Inc. (VEC) tendered for filing as Service Agreement No. 14 under VEC's FERC Electric Tariff, Original Volume No. 1, a small generator interconnection agreement with Great Bay Hydro Corporation (Great Bay). VEC requests an effective date of April 1, 2004.

VEC states that representatives of Great Bay, Citizens Communication Company, the Vermont Public Service Board, and the Vermont Department of Public Service were mailed copies of the filing.

Comment Date: May 25, 2004.

15. New England Power Company

[Docket No. ER04-814-000]

Take notice that on May 4, 2003, New England Power Company (NEP) submitted for filing First Revised Service Agreement No. 35 between NEP and Central Vermont Public Service Corporation (CVPS) under NEP's open access transmission tariff, New England Power Company, FERC Electric Tariff, Second Revised Volume No. 9. NEP requests an effective date of April 29, 2004.

NEP states that copies of the filing were served on CVPS and state regulators in Vermont.

Comment Date: May 25, 2004.

16. Alabama Power Company

[Docket No. ER04-815-000]

Take notice that on May 5, 2004, Alabama Power Company filed a Transmission Facilities Agreement between Alabama Power Company and Georgia Power Company, dated April 28, 2004. Alabama Power Company states that the parties entered into this transmission facilities agreement in order to properly allocate the costs of certain transmission upgrades to Alabama Power Company's transmission system.

Comment Date: May 26, 2004.

17. Sierra Pacific Resources Operating Companies

[Docket No. ER04-816-000]

Take notice that on May 5, 2004, Sierra Pacific Resources Operating Companies tendered for filing an amendment to section 17.7 of its Open Access Transmission Tariff to implement procedures for addressing requests to extend the commencement of service over transmission facilities constructed to accommodate a new service request.

Comment Date: May 26, 2004.

18. Indeck Maine Energy, L.L.C.

[Docket No. ER04-817-000]

Take notice that on May 5, 2004, Indeck Maine Energy, L.L.C. (Indeck Maine) tendered for filing, under section 205 of the Federal Power Act, a request for authorization to sell electricity at market-based rates under its proposed market-based tariff. Indeck Maine requests an effective date of May 14, 2004.

Comment Date: May 26, 2004.

19. Pierce Power, LLC

[Docket No. ER04-818-000]

Take notice that on May 5, 2004, Pierce Power, LLC (Pierce Power)tendered for filing a Notice of Cancellation of its market-based rate authority. Pierce Power request that the termination to be effective September 30, 2002.

Comment Date: May 26, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1198 Filed 5-20-04; 8:45 am]

BILLING CODE 6717-01-P